DEPARTMENT OF HOMELAND SECURITY

Coast Guard

[Docket No. USCG-2009-0128]

National Offshore Safety Advisory Committee; Charter Renewal

AGENCY: Coast Guard, DHS.

ACTION: Notice of charter renewal.

SUMMARY: Under the Federal Advisory Committee Act, 5 U.S.C. App. (Pub. L. 92-463), the Secretary of Homeland Security has renewed the charter for the National Offshore Safety Advisory Committee (NOSAC) for a 2-year period, from February 9, 2009 until February 9, 2011. This Committee advises the Coast Guard on safety, security and environmental protection issues relating to the offshore mineral and energy industries.

ADDRESSES: A copy of this notice and the Committee charter is available in our online docket, USCG-2009-0128, at http://www.regulations.gov. You may request a copy of the charter by writing Commander P.W. Clark, Designated Federal Officer (DFO) of NOSAC, at U.S. Coast Guard, 2100 Second Street SW., Washington, DC 20593-0001.

FOR FURTHER INFORMATION CONTACT: James M. Magill, Assistant to DFO of NOSAC; telephone 202-372-1414.

Dated: February 24, 2009.
Howard L. Hime,
Acting Director of Commercial Regulations and Standards.

[FR Doc. E9-4534 Filed 3-3-09; 8:45 am]

BILLING CODE 4910-15-P